DEPARTMENT OF COMMERCE

International Trade Administration

[A-570-090]

Certain Steel Wheels 12 to 16.5 Inches in Diameter From the People's Republic of China: Final Results of the Expedited First Sunset Review of the Antidumping Duty Order

AGENCY: Enforcement and Compliance, International Trade Administration, Department of Commerce.

SUMMARY: As a result of this expedited sunset review, the U.S. Department of Commerce (Commerce) finds that revocation of the antidumping duty (AD) order on certain steel wheels 12 to 16.5 inches in diameter (steel wheels) from the People's Republic of China (China) would be likely to lead to continuation or recurrence of dumping at the levels indicated in the “Final Results of Sunset Review” section of this notice.

DATES: Applicable December 2, 2024.

FOR FURTHER INFORMATION CONTACT: Kate Fracke, AD/CVD Operations, Office III, Enforcement and Compliance, International Trade Administration, U.S. Department of Commerce, 1401 Constitution Avenue NW, Washington, DC 20230; telephone: (202) 482-3299.

SUPPLEMENTARY INFORMATION:

Background

On September 3, 2019, Commerce published the AD order on steel wheels from China.¹ On August 1, 2024, Commerce published the notice of initiation of the first sunset review of the Order, pursuant to section 751(c) of the Tariff Act of 1930, as amended (the Act).²

¹ See Certain Steel Trailer Wheels 12 to 16.5 Inches from the People's Republic of China: Antidumping Duty and Countervailing Duty Orders, 84 FR 45952 (September 3, 2019) (Order).

² See Initiation of Five-Year (Sunset) Review, 89 FR 62717 (August 1, 2024).

On August 16, 2024, Commerce received a notice of intent to participate in this review from the Dexstar Wheel Division of Americana Development (Dexstar) within the deadline specified in 19 CFR 351.218(d)(1)(i).³ Dexstar claimed interested party status under section 771(9)(c) of the Act and 19 CFR 351.102(b)(17) as a producer of a domestic like product in the United States.⁴ On August 30, 2024, Commerce received an adequate substantive response from Dexstar.⁵ We received no substantive responses from any other interested parties, nor was a hearing requested.

³ See Dexstar's Letter, “Notice of Intent to Participate in the First Five-Year Review,” dated August 16, 2024.

⁴ Id.

⁵ See Dexstar's Letter, “Petitioner's Substantive Response to the Notice of Initiation,” dated August 30, 2024.

On September 24, 2024, Commerce notified the U.S. International Trade Commission (ITC) that it did not receive an adequate substantive response from respondent interested parties.⁶ As a result, pursuant to section 751(c)(3)(B) of the Act and 19 CFR 351.218(e)(1)(ii)(C)(2), Commerce conducted an expedited (120-day) sunset review of the Order.

⁶ See Commerce's Letter, “Sunset Reviews Initiated on August 1, 2024,” dated September 24, 2024.

Scope of the Order

The scope of the Order covers certain steel trailer wheels with a nominal wheel diameter of 12 to 16.5 inches, regardless of width. For a full description of the scope, see the Issues and Decision Memorandum.⁷

⁷ See Memorandum, “Issues and Decision Memorandum for the Final Results of the Expedited First Sunset Review of the Antidumping Duty Order on Certain Steel Wheels 12 to 16.5 Inches in Diameter from the People's Republic of China,” dated concurrently with, and hereby adopted by, this notice (Issues and Decision Memorandum).

Analysis of Comments Received

A complete discussion of all issues raised in this sunset review is contained in the accompanying Issues and Decision Memorandum.⁸ A list of topics discussed in the Issues and Decision Memorandum is included as an appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at http://access.trade.gov/public/FRNoticesListLayout.aspx.

⁸ See Issues and Decision Memorandum.

Final Results of Sunset Review

Pursuant to sections 751(c)(1), and 752(c)(1) and (3) of the Act, Commerce determines that revocation of the Order would be likely to lead to the continuation or recurrence of dumping and that the magnitude of the dumping likely to prevail would be margins up to 44.35 percent.⁹

⁹ Id.

Administrative Protective Order (APO)

This notice serves as the only reminder to interested parties subject to an APO of their responsibility concerning the return/destruction or conversion to judicial protective order of proprietary information disclosed under APO in accordance with 19 CFR 351.305. Timely notification of the return or destruction of APO materials or conversion to judicial protective order is hereby requested. Failure to comply with the regulations and terms of an APO is a violation which is subject to sanction.

Notification to Interested Parties

We are issuing and publishing these final results in accordance with sections 751(c), 752(c), and 777(i)(1) of the Act, and 19 CFR 351.218.

Dated: November 25, 2024.
Abdelali Elouaradia,
Deputy Assistant Secretary for Enforcement and Compliance.

Appendix

List of Topics Discussed in the Issues and Decision Memorandum

I. Summary

II. Background

III. Scope of the Order

IV. History of the Order

V. Legal Framework

VI. Discussion of the Issues

1. Likelihood of Continuation or Recurrence of Dumping

2. Magnitude of the Margins Likely to Prevail

VII. Final Results of Sunset Review

VIII. Recommendation

[FR Doc. 2024-28174 Filed 11-29-24; 8:45 am]

BILLING CODE 3510-DS-P